FEDERAL DEPOSIT INSURANCE CORPORATION

[OMB No. 3064-0212]

Agency Information Collection Activities: Proposed Collection; Comment Request; Correction

AGENCY: Federal Deposit Insurance Corporation (FDIC).

ACTION: Notice and request for comment; Correction.

SUMMARY: The FDIC published a document in the Federal Register of September 22, 2021 concerning request for comments on the agency's collection of information that may result from innovators obtaining information from banks and other members of the public in connection with innovation pilot programs, as required by the Paperwork Reduction Act of 1995. The document contained an incorrect number of hours in the “General Description of Collection” section in the document. The correct number of hours, however, was reflected in the “Summary of Annual Burden” Table in the document.

FOR FURTHER INFORMATION CONTACT: Jennifer Jones, Counsel, 202-898-6768, jennjones@fdic.gov, MB-3078, Federal Deposit Insurance Corporation, 550 17th Street NW, Washington, DC 20429.

SUPPLEMENTARY INFORMATION:

Correction

In the Federal Register of September 22, 2021, in FR Doc. 86 FR 52679, on page 52680, in the second column, correct the first sentence in the second paragraph to read:

The annual burden for this information collection is estimated to be 40,000 hours.

Federal Deposit Insurance Corporation.
Dated at Washington, DC, on September 22, 2021.
James Sheesley,
Assistant Executive Secretary.

[FR Doc. 2021-20973 Filed 9-27-21; 8:45 am]

BILLING CODE P